DEPARTMENT OF LABOR

Office of the Secretary

Submission for OMB Review; Comment Request

March 26, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on 202-693-4129 or e-mail: King.Darrin@dol.gov.

Comments should be sent to Office of Information and Regulatory Affairs, Attn: OMB Desk Officer for ETA, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Employment and Training Administration (ETA).

Type of Review: Revision of a currently approved collection.

Title: Unemployment Compensation for Former Federal Employees Handbook No. 391.

OMB Number: 1205-0179.

Affected Public: Individuals or households; State, Local, or Tribal Government; and Federal Government.

Type of Response: Recordkeeping and Reporting.

Frequency: On occasion—use of forms is dependent on level of unemployment.

Form | Annual responses | Average response time (hours) | Annual burden hours
ETA-931 | 87,000 | 0.05 | 72
ETA-931A | 21,750 | 0.05 | 18
ETA-933 | 4,350 | 0.05 | 4
ETA-934 | 8,700 | 0.05 | 7
ETA-935 | 87,000 | 0.08 | 116
Total: | 208,800 |  | 217

Total Annualized Capital/Startup Costs: $0.

Total Annual Costs (operating/maintaining systems or purchasing services): $0.

Description: Federal law (5 U.S.C. 8501-8509) provides unemployment insurance protection to former or partially unemployed Federal civilian employees. The forms contained throughout the Handbook No. 391 are used in conjunction with the provision of this benefit assistance.

Ira L. Mills,
Departmental Clearance Officer.

[FR Doc. 03-8082 Filed 4-2-03; 8:45 am]

BILLING CODE 4510-23-M